SECURITIES AND EXCHANGE COMMISSION

[OMB Control No. 3235-0758]

Agency Information Collection Activities; Proposed Collection; Comment Request; Extension: Rule 30e-3 (17 CFR 270.30e-3) Under the Investment Company Act of 1940, “Internet Availability of Reports to Shareholders”

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“SEC” or “Commission”) is soliciting comments on the proposed collection of information.

Under Section 30 of the Investment Company Act of 1940, as amended (the “Investment Company Act”), a registered investment company is required to transmit to its shareholders, at least semi-annually, reports containing financial statements and other financial information as the Commission may prescribe by rules and regulations. Rule 30e-3 under the Investment Company Act provides certain funds with an optional method to satisfy shareholder report transmission requirements by making such reports and certain other materials publicly accessible on a website, as long as they satisfy certain other conditions of the rule regarding (1) availability of the report and other materials; (2) notice to investors of the website availability of the report; and (3) delivery of paper copies of materials upon request.

Certain of the provisions of rule 30e-3 contain “collection of information” requirements within the meaning on the Paperwork Reduction Act. The collection of information is required pursuant to 17 CFR 270.30e-3. Reliance on the rule is voluntary. Responses to the disclosure requirements are not kept confidential.

We estimate that annually there are approximately 703 funds affected by rule 30e-3. We estimate that the total annual burden of complying with the information collection requirements in rule 30e-3 is approximately 1,406 burden hours. We estimate that there is an annual cost burden of approximately $5,129,008. These burden hour and cost estimates are based upon the Commission staff's experience and discussions with the fund industry. The estimates of average burden hours and costs are made solely for the purposes of the Paperwork Reduction Act. These estimates are not derived from a comprehensive or even a representative survey or study of the costs of Commission rules.

Compliance with the collection of information requirements of the rule is necessary to obtain the benefit of relying on the rule. An agency may not conduct or sponsor, and a person is not required to respond to, a collection of information unless it displays a currently valid OMB Control Number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

Please direct your written comments on this 60-Day Collection Notice to Austin Gerig, Director/Chief Data Officer, Securities and Exchange Commission, c/o Tanya Ruttenberg via email to PaperworkReductionAct@sec.gov by November 28, 2025. There will be a second opportunity to comment on this SEC request following the Federal Register publishing a 30-Day Submission Notice.

Dated: September 24, 2025.
Sherry R. Haywood,
Assistant Secretary.

[FR Doc. 2025-18782 Filed 9-26-25; 8:45 am]

BILLING CODE 8011-01-P